ENVIRONMENTAL PROTECTION AGENCY

[FRL-6960-6]

Agency Information Collection Activities: Proposed Collection; Comment Request; Clean Water Act State Revolving Fund Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Clean Water Act State Revolving Fund Program, EPA ICR Number 1391.04, OMB Control Number 2040-0118 and expiration date of 09/30/01. Before submitting the ICR to OMB for review and approval, EPA is soliciting comments on specific aspects of the proposed information collection as described below.

DATES: Comments must be submitted on or before June 4, 2001.

ADDRESSES: Comments may either be mailed to Nelson L. Price, Office of Wastewater Management (4204M), ICC Building, U.S. Environmental Protection Agency, 1201 Constitution Ave., NW., Washington, DC 20460 or emailed to price.nelson@epa.gov and refer to EPA No. 1391.06.

FOR FURTHER INFORMATION CONTACT: Nelson L. Price at (202) 564-0602, or FAX at (202) 501-2403.

SUPPLEMENTARY INFORMATION: Affected entities: Entities potentially affected by this action are those which consist of the fifty states, Puerto Rico, and the recipients of assistance in each of these jurisdictions.

Title: Clean Water Act State Revolving Fund Program (OMB Control No. 2040-0118; EPA ICR No.1391.04) expiring 09/30/01.

Abstract: The Clean Water Act, as amended by “The Water Quality Act of 1987” (U.S.C. 1381-1387 et. seq.), created a Title VI which authorizes grants to States for the establishment of State Water Pollution Control Revolving Funds (SRFs). The information activities are pursuant to section 606 of the Act, and SRF Interim Final Rule (March 1990).

The 1987 Act declares that water pollution control revolving loan funds shall be administered by an instrumentality of the State subject to the requirements of the Act. This means that each State has a general responsibility for administering its revolving fund and must take on certain specific responsibilities in carrying out its administrative duties. The information collection activities will occur primarily at the program level through the State Intended Use Plan and Annual Report. The information is needed annually to implement section 606 of the Clean Water Act (CWA). The Act requires the information to ensure national accountability, adequate public comment and review, fiscal integrity and consistent management directed to achieve environmental objectives. The individual information collections are: (1) Capitalization Grant Application and Agreement / State Intended Use Plan, (2) Annual Report, (3) State Audit, and (4) Application for SRF Financial Assistance.

(1) Capitalization Grant Application and Agreement / State Intended Use Plan: The State will prepare a Capitalization Grant Application that includes an Intended Use Plan (IUP) outlining in detail how it will use all the funds available to the fund. The grant agreement contains or incorporates by reference the IUP, application materials, payment schedule, and required assurances. The bulk of the information is provided in the IUP, the legal agreement which commits the State and EPA to execute their responsibilities under the Act.

(2) Annual Report: The State must agree to complete and submit an Annual Report that indicates how the State has met the goals and objectives of the previous fiscal year as stated in the IUP and grant agreement. The Report provides information on loan recipients, loan amounts, loan terms, project categories, and similar data on other forms of assistance. The Report describes the extent to which the existing SRF financial operating policies, alone or in combination with other State financial assistance programs, will provide for the long term fiscal health of the Fund and carry out other provisions specified in the grant operating agreement.

(3) Annual Audit: Most States have agreed to conduct or have conducted a separate financial audit of the capitalization grant which will provide opinions on the financial statements, and a report on the internal controls and compliance with program requirements. The remaining States will be covered by audits conducted under the requirements of the Single Audit Act and by EPA's Office of Inspector General.

(4) Application for SRF Financial Assistance: Local communities and other eligible entities have to prepare and submit applications for SRF assistance to their respective State Agency which manages the SRF program. The State reviews the completed loan applications, and verifies that the proposed projects will comply with applicable Federal and State requirements.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement

(1) Capitalization Grant Application and Agreement/State Intended Use Plan
2001 | 51 States × 400 Hours | = 20,400 Burden Hours.
2002 | 51 States × 400 Hours | = 20,400 Burden Hours.
2003 | 51 States × 400 Hours | = 20,400 Burden Hours.
(2) Annual Report
2001 | 51 States × 275 Hours | = 14,025 Burden Hours.
2002 | 51 States × 275 Hours | = 14,025 Burden Hours.
2003 | 51 States × 275 Hours | = 14,025 Burden Hours.
(3) State Annual Audit
2001 | 51 States × 80 Hours | = 4,080 Burden Hours.
2002 | 51 States × 80 Hours | = 4,080 Burden Hours.
2003 | 51 States × 80 Hours | = 4,080 Burden Hours.
(4) Applications for SRF Financing Assistance
2001 | 51 States × 39 Applications × 40 Hours | = 79,560 Hours.
2002 | 51 States × 44 Applications × 40 Hours | = 89,760 Hours.
2003 | 51 States × 49 Applications × 40 Hours | = 99,960 Hours.
2001 | 1,989 Communities × 60 Hours | = 119,340 Burden Hours.
2002 | 2,244 Communities × 60 Hours | = 134,640 Burden Hours.
2003 | 2,499 Communities × 60 Hours | = 149,940 Burden Hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 23, 2001.
Michael B. Cook,
Director, Office of Wastewater Management.

[FR Doc. 01-8127 Filed 4-2-01; 8:45 am]

BILLING CODE 6560-50-P